DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by July 19, 2002.

Title, Form, and OMB Number: Uniform Tender of Rates and/or Charges for Domestic Transportation Services (DoD/USCG Sponsored Household Goods; MT Form 43-R; OMB Number 0702-0018.

Type of Request: Reinstallment.

Number of Respondent: 1,580.

Response per Respondent: 1.

Annual Responses: 6,320.

Average Burden Per Response: 30 minutes.

Annual Burden Hours: 3,160.

Needs and Uses: Department of Defense approved household goods carriers file rates to engage in the movement of DoD and United States Coast Guard sponsored shipments within the continental United States. Headquarters, Military Traffic Management Command evaluates the rates and awards the traffic to low rate responsible carriers whose rates are responsive and most advantageous to the Government.

Affected Public: Business or Other For-Profit.

Frequency: Semi-Annually.

Respondent's Obligation: Required to Obtain or Retain Benefits.

OMB Desk Officer: Ms. Jackie Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 10, 2002.
Patricia L. Toppings,
Alternate OSD Federal Register, Liaison Officer, Department of Defense.

[FR Doc. 02-12503 Filed 5-17-02; 8:45 am]

BILLING CODE 5001-08-M